DEPARTMENT OF TRANSPORTATION

Federal Aviation Administration

14 CFR Part 97

[Docket No. 30734; Amdt. No. 3382]

Standard Instrument Approach Procedures, and Takeoff Minimums and Obstacle Departure Procedures; Miscellaneous Amendments

AGENCY: Federal Aviation Administration (FAA), DOT.

ACTION: Final rule.

SUMMARY: This establishes, amends, suspends, or revokes Standard Instrument Approach Procedures (SIAPs) and associated Takeoff Minimums and Obstacle Departure Procedures for operations at certain airports. These regulatory actions are needed because of the adoption of new or revised criteria, or because of changes occurring in the National Airspace System, such as the commissioning of new navigational facilities, adding new obstacles, or changing air traffic requirements. These changes are designed to provide safe and efficient use of the navigable airspace and to promote safe flight operations under instrument flight rules at the affected airports.

DATES: This rule is effective July 21, 2010. The compliance date for each SIAP, associated Takeoff Minimums, and ODP is specified in the amendatory provisions.

The incorporation by reference of certain publications listed in the regulations is approved by the Director of the Federal Register as of July 21, 2010.

ADDRESSES: Availability of matters incorporated by reference in the amendment is as follows:

For Examination—

1. FAA Rules Docket, FAA Headquarters Building, 800 Independence Avenue, SW., Washington, DC 20591;

2. The FAA Regional Office of the region in which the affected airport is located;

3. The National Flight Procedures Office, 6500 South MacArthur Blvd., Oklahoma City, OK 73169; or

4. The National Archives and Records Administration (NARA). For information on the availability of this material at NARA, call 202-741-6030, or go to: http://www.archives.gov/federal_register/code_of_federal_regulations/ibr_locations.html.

Availability—All SIAPs and Takeoff Minimums and ODPs are available online free of charge. Visit http://www.nfdc.faa.gov to register. Additionally, individual SIAP and Takeoff Minimums and ODP copies may be obtained from:

1. FAA Public Inquiry Center (APA-200), FAA Headquarters Building, 800 Independence Avenue, SW., Washington, DC 20591; or

2. The FAA Regional Office of the region in which the affected airport is located.

FOR FURTHER INFORMATION CONTACT: Harry J. Hodges, Flight Procedure Standards Branch (AFS-420), Flight Technologies and Programs Divisions, Flight Standards Service, Federal Aviation Administration, Mike Monroney Aeronautical Center, 6500 South MacArthur Blvd., Oklahoma City, OK 73169 (Mail Address: P.O. Box 25082, Oklahoma City, OK 73125) Telephone: (405) 954-4164.

SUPPLEMENTARY INFORMATION: This rule amends Title 14 of the Code of Federal Regulations, Part 97 (14 CFR part 97), by establishing, amending, suspending, or revoking SIAPS, Takeoff Minimums and/or ODPS. The complete regulators description of each SIAP and its associated Takeoff Minimums or ODP for an identified airport is listed on FAA form documents which are incorporated by reference in this amendment under 5 U.S.C. 552(a), 1 CFR part 51, and 14 CFR part 97.20. The applicable FAA Forms are FAA Forms 8260-3, 8260-4, 8260-5, 8260-15A, and 8260-15B when required by an entry on 8260-15A.

The large number of SIAPs, Takeoff Minimums and ODPs, in addition to their complex nature and the need for a special format make publication in the Federal Register expensive and impractical. Furthermore, airmen do not use the regulatory text of the SIAPs, Takeoff Minimums or ODPs, but instead refer to their depiction on charts printed by publishers of aeronautical materials. The advantages of incorporation by reference are realized and publication of the complete description of each SIAP, Takeoff Minimums and ODP listed on FAA forms is unnecessary. This amendment provides the affected CFR sections and specifies the types of SIAPs and the effective dates of the associated Takeoff Minimums and ODPs. This amendment also identifies the airport and its location, the procedure, and the amendment number.

The Rule

This amendment to 14 CFR part 97 is effective upon publication of each separate SIAP, Takeoff Minimums and ODP as contained in the transmittal. Some SIAP and Takeoff Minimums and textual ODP amendments may have been issued previously by the FAA in a Flight Data Center (FDC) Notice to Airmen (NOTAM) as an emergency action of immediate flight safety relating directly to published aeronautical charts. The circumstances which created the need for some SIAP and Takeoff Minimums and ODP amendments may require making them effective in less than 30 days. For the remaining SIAPS and Takeoff Minimums and ODPS, an effective date at least 30 days after publication is provided.

Further, the SIAPs and Takeoff Minimums and ODPS contained in this amendment are based on the criteria contained in the U.S. Standard for Terminal Instrument Procedures (TERPS). In developing these SIAPS and Takeoff Minimums and ODPs, the TERPS criteria were applied to the conditions existing or anticipated at the affected airports. Because of the close and immediate relationship between these SIAPs, Takeoff Minimums and ODPs, and safety in air commerce, I find that notice and public procedures before adopting these SIAPS, Takeoff Minimums and ODPs are impracticable and contrary to the public interest and, where applicable, that good cause exists for making some SIAPs effective in less than 30 days.

Conclusion

The FAA has determined that this regulation only involves an established body of technical regulations for which frequent and routine amendments are necessary to keep them operationally current. It, therefore—-(1) is not a “significant regulatory action” under Executive Order 12866; (2) is not a “significant rule ” under DOT Regulatory Policies and Procedures (44 FR 11034; February 26,1979); and (3) does not warrant preparation of a regulatory evaluation as the anticipated impact is so minimal. For the same reason, the FAA certifies that this amendment will not have a significant economic impact on a substantial number of small entities under the criteria of the Regulatory Flexibility Act.

List of Subjects in 14 CFR Part 97

Air traffic control, Airports, Incorporation by reference, and Navigation (air).

Issued in Washington, DC, on July 9, 2010.
John M. Allen,
Director, Flight Standards Service.

Adoption of the Amendment

Accordingly, pursuant to the authority delegated to me, Title 14, Code of Federal Regulations, Part 97 (14 CFR part 97) is amended by establishing, amending, suspending, or revoking Standard Instrument Approach Procedures and/or Takeoff Minimums and/or Obstacle Departure Procedures effective at 0902 UTC on the dates specified, as follows:

PART 97—STANDARD INSTRUMENT APPROACH PROCEDURES

1. The authority citation for part 97 continues to read as follows:

Authority: 49 U.S.C. 106(g), 40103, 40106, 40113, 40114, 40120, 44502, 44514, 44701, 44719, 44721-44722.

2. Part 97 is amended to read as follows:

Effective 26 AUG 2010

Windsor Locks, CT, Bradley Intl, RNAV (RNP) Z RWY 15, Orig-A

Orlando, FL, Kissimmee Gateway, ILS OR LOC RWY 15, Amdt 1

Orlando, FL, Kissimmee Gateway, NDB RWY 15, Amdt 1, CANCELLED

Orlando, FL, Kissimmee Gateway, RNAV (GPS) RWY 15, Amdt 1

Orlando, FL, Kissimmee Gateway, RNAV (GPS) RWY 33, Amdt 1

Georgetown, OH, Brown County, Takeoff Minimums and Obstacle DP, Amdt 2

Georgetown, OH, Brown County, VOR/DME-A, Amdt 1

Columbia/Mt Pleasant, TN, Maury County, SDF RWY 24, Amdt 4C, CANCELLED

Knoxville, TN, Knoxville Downtown Island, Takeoff Minimums and Obstacle DP, Amdt 5

Effective 23 SEP 2010

Klawock, AK, Klawock, Takeoff Minimums and Obstacle DP, Amdt 3

Lincoln, CA, Lincoln Rgnl/Karl Harder Field, GPS RWY 15, Orig-A, CANCELLED

Lincoln, CA, Lincoln Rgnl/Karl Harder Field, GPS RWY 33, Orig, CANCELLED

Lincoln, CA, Lincoln Rgnl/Karl Harder Field, ILS OR LOC RWY 15, Amdt 1

Lincoln, CA, Lincoln Rgnl/Karl Harder Field, RNAV (GPS) RWY 15, Orig

Lincoln, CA, Lincoln Rgnl/Karl Harder Field, RNAV (GPS) RWY 33, Orig

Crystal River, FL, Crystal River, RNAV (GPS) RWY 9, Orig

Crystal River, FL, Crystal River, RNAV (GPS) RWY 27, Orig

Crystal River, FL, Crystal River, VOR/DME-A, Amdt 2

Destin, FL, Destin Fort Walton Beach, NDB RWY 32, Amdt 1A, CANCELLED

Ocala, FL, Ocala Intl-Jim Taylor Field, RNAV (GPS) RWY 18, Amdt 2

Perry, FL, Perry-Foley, RNAV (GPS) RWY 18, Amdt 1

Perry, FL, Perry-Foley, RNAV (GPS) RWY 36, Amdt 1

Jefferson, GA, Jackson County, RNAV (GPS) RWY 17, Amdt 2

Jefferson, GA, Jackson County, RNAV (GPS) RWY 35, Amdt 2

Jefferson, GA, Jackson County, VOR/DME RWY 35, Amdt 2

Boise, ID, Boise Air Terminal/Gowen Fld, ILS OR LOC RWY 10R, ILS RWY 10R (CAT II), ILS RWY 10R (CAT III), Amdt 11

Bloomington/Normal, IL, Central IL Rgnl Arpt at Bloomington-Normal, ILS OR LOC/DME RWY 2, Orig-A

Decatur, IL, Decatur, Takeoff Minimums and Obstacle DP, Amdt 3

Matoon/Charleston, IL, Coles County Memorial, NDB RWY 29, Amdt 5A

Matoon/Charleston, IL, Coles County Memorial, VOR RWY 6, Amdt 13A

Matoon/Charleston, IL, Coles County Memorial, VOR RWY 24, Amdt 11A

Paris, IL, Edgar County, VOR/DME-A, Amdt 8

Shelbyville, IL, Shelby County, NDB-A, Amdt 2A

Shelbyville, IL, Shelby County, RNAV (GPS) RWY 36, Orig-A

Taylorville, IL, Taylorville Muni, NDB RWY 18, Amdt 4A

Taylorville, IL, Taylorville Muni, RNAV (GPS) RWY 18, Orig-A

Jeffersonville, IN, Clark Rgnl, Takeoff Minimums and Obstacle DP, Amdt 2

Michigan City, IN, Michigan City Muni, GPS RWY 20, Amdt 1, CANCELLED

Michigan City, IN, Michigan City Muni, RNAV (GPS) RWY 20, Orig

Michigan City, IN, Michigan City Muni, Takeoff Minimums and Obstacle DP, Amdt 2

Michigan City, IN, Michigan City Muni, VOR-A, Amdt 5

Lexington, KY, Blue Grass, RNAV (GPS) RWY 9, Orig

Lexington, KY, Blue Grass, RNAV (GPS) RWY 27, Orig

Lexington, KY, Blue Grass, Takeoff Minimums and Obstacle DP, Amdt 7

Stow, MA, Minute Man Airfield, Takeoff Minimums and Obstacle DP, Amdt 3

Frenchville, ME, Northern Aroostook Rgnl, RNAV (GPS) RWY 14, Amdt 1

Frenchville, ME, Northern Aroostook Rgnl, RNAV (GPS) RWY 32, Amdt 1

Lincoln, ME, Lincoln Rgnl, NDB RWY 17, Amdt 1, CANCELLED

Faribault, MN, Faribault Muni, GPS RWY 30, Orig-A, CANCELLED

Faribault, MN, Faribault Muni, RNAV (GPS) RWY 12, Orig

Faribault, MN, Faribault Muni, RNAV (GPS) RWY 30, Orig

Faribault, MN, Faribault Muni, VOR-A, Amdt 6

Faribault, MN, Faribault Muni, VOR/DME RNAV OR GPS RWY 12, Amdt 5, CANCELLED

Minneapolis, MN, Flying Cloud, RNAV (GPS) RWY 10R, Orig

Perham, MN, Perham Muni, GPS RWY 30, Orig, CANCELLED

Perham, MN, Perham Muni, RNAV (GPS) RWY 30, Orig

Atlantic City, NJ, Atlantic City Intl, RNAV (GPS) RWY 22, Amdt 3

Newburgh, NY, Stewart Intl, COPTER ILS OR LOC RWY 9, Orig-A, CANCELLED

Newburgh, NY, Stewart Intl, ILS OR LOC RWY 9, Amdt 11

Newburgh, NY, Stewart Intl, RNAV (GPS) RWY 16, Amdt 1

Newburgh, NY, Stewart Intl, RNAV (GPS) RWY 34, Amdt 1

Urbana, OH, Grimes Field, Takeoff Minimums and Obstacle DP, Amdt 1

Corvallis, OR, Corvallis Muni, RNAV (GPS) RWY 35, Amdt 1

Butler, PA, Butler County/K.W. Scholter Field, Takeoff Minimums and Obstacle DP, Amdt 3

Meadville, PA, Port Meadville, Takeoff Minimums and Obstacle DP, Amdt 4

Philadelphia, PA, Wings Field, RNAV (GPS) RWY 6, Amdt 1

Philadelphia, PA, Wings Field, RNAV (GPS) RWY 24, Amdt 1

Philadelphia, PA, Wings Field, Takeoff Minimums and Obstacle DP, Amdt 2

San Juan, PR, Luis Munoz Marin Intl, ILS OR LOC RWY 8, Amdt 16

San Juan, PR, Luis Munoz Marin Intl, ILS OR LOC RWY 10, Amdt 5

San Juan, PR, Luis Munoz Marin Intl, RNAV (GPS) RWY 8, Amdt 1

San Juan, PR, Luis Munoz Marin Intl, RNAV (GPS) RWY 10, Amdt 1

Charleston, SC, Charleston AFB/Intl, ILS OR LOC/DME RWY 33, Amdt 7

Charleston, SC, Charleston AFB/Intl, RNAV (GPS) RWY 15, Amdt 2

Charleston, SC, Charleston AFB/Intl, RNAV (GPS) RWY 33, Amdt 2

Knoxville, TN, Knoxville Downtown Island, LOC RWY 26, Amdt 4

Knoxville, TN, Knoxville Downtown Island, RNAV (GPS) RWY 26, Orig

Knoxville, TN, Knoxville Downtown Island, VOR/DME-B, Amdt 7

Murfreesboro, TN, Murfreesboro Muni, NDB RWY 18, Amdt 1

Murfreesboro, TN, Murfreesboro Muni, Takeoff Minimums and Obstacle DP, Amdt 3

Abingdon, VA, Virginia Highlands, Takeoff Minimums and Obstacle DP, Amdt 2

Friday Harbor, WA, Friday Harbor, NDB RWY 34, Amdt 2

Ashland, WI, John F. Kennedy Memorial, NDB RWY 2, Amdt 9A, CANCELLED

Cable, WI, Cable Union, NDB OR GPS-B, Amdt 10, CANCELLED

Cumberland, WI, Cumberland Muni, NDB OR GPS RWY 9, Amdt 2, CANCELLED

Hayward, WI, Sawyer County, LOC/DME RWY 20, Amdt 1A

[FR Doc. 2010-17499 Filed 7-20-10; 8:45 am]

BILLING CODE 4910-13-P